ENVIRONMENTAL PROTECTION AGENCY

[ER-FRL-6607-8]

Environmental Impact Statements and Regulations; Availability of EPA Comments

Availability of EPA comments prepared May 15, 2000 Through May 19, 2000 pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-L65344-AK Rating EC2, Emerald Bay Timber Sale, Implementation, Ketchikan-Misty Fiords Ranger District, Tongass National Forest, U.S. Cost Guard Bridge Permit, NPDES Permit, and COE Section 10 and 404 Permits, Cleveland Peninsula, AK.

Summary: EPA expressed concerns about the lack of detailed information in the Environment and Effects chapter, the limited range of options covered in alternatives and that the alternatives were not completely developed and analyzed in the EIS. EPA recommends these issues be addressed in the final EIS.

ERP No. D-AFS-L65346-ID Rating EC2, Middle Fork Weiser River Watershed Project, Implementation of Vegetation Restoration, Landscape Fire Pattern and Watershed Restoration Objectives, Payette National Forest, Council Ranger District, Adams County, ID.

Summary: EPA expressed environmental concerns with potential impacts to water quality as well as the need for additional information on sediment delivery and other water quality related data.

ERP No. D-IBR-K39055-CA Rating, Salton Sea Restoration Project, Implementation, COE Section 404 Permit, Riverside and Imperial Counties, CA.

Summary: EPA concluded that the DEIS is inadequate and should be formally revised and reissued for public comment as a Supplemental Draft Environmental Impact Statement (SDEIS). On the basis of the potential significant impacts involved, this proposal could be a candidate for referral to the Council on Environmental Quality (CEQ). The basis for EPA's position is: (1) There are significant deficiencies in the environmental analysis, (2) the DEIS does not demonstrate that the project alternatives are feasible or sustainable or that they will achieve project objectives, (3) Salton Sea restoration should be evaluated within the context of the Lower Colorado River watershed, and (4) the project scope is too narrow.

Final EISs

ERP No. F-BLM-J02037-WY South Baggs Natural Gas Development Area, Proposal to Drill and Develop 50 Natural Gas Wells, Application for Permit to Drill and COE Section 404 Permit, Carbon County, WY.

Summary: No formal comment letter was sent to the preparing agency.

ERP No. F-DOE-E06018-SC, Savannah River Site Spent Nuclear Fuel Management Plan, Implementation, Aiken County, SC.

Summary: EPA noted that the EIS provided a good explanation of the complex issues associated with this project, but the Agency has concerns about the project's cumulative environmental impacts.

Dated: May 30, 2000.
Ken Mittelholtz,
Environmental Protection Specialist, Office of Federal Activities.

[FR Doc. 00-13887 Filed 6-1-00; 8:45 am]

BILLING CODE 6560-50-U